DEPARTMENT OF COMMERCE

International Trade Administration

[A-570-846]

Brake Rotors From the People's Republic of China: Preliminary Results, Preliminary Partial Rescission, and Postponement of Final Results of the Fourth Antidumping Duty Administrative Review

AGENCY: Import Administration, International Trade Administration, Department of Commerce.

ACTION: Notice of preliminary results, partial rescission, and postponement of final results of fourth antidumping duty administrative review.

SUMMARY: The Department of Commerce is currently conducting an administrative review of the antidumping duty order on brake rotors from the People's Republic of China covering the period April 1, 2000, through March 31, 2001. This administrative review examines one exporter and five exporters included in three exporter/producer combinations.

We have preliminarily determined that sales have not been made below normal value by Qingdao Gren (Group) Co., the exporter under review. If these preliminary results are adopted for the final results of this review, we will instruct the Customs Service to assess no antidumping duties on entries of the subject merchandise during the period of review from this exporter. We are also preliminarily rescinding the review with respect to five exporters included in three exporter/producer combinations, because none of those respondents made shipments of the subject merchandise during the period of review.

Interested parties are invited to comment on these preliminary results. We will issue the final results of this review no later than 300 days from the date of publication of this notice.

EFFECTIVE DATE: January 4, 2002.

FOR FURTHER INFORMATION CONTACT: Brian Smith or Terre Keaton, Import Administration, International Trade Administration, U.S. Department of Commerce, 14th Street and Constitution Avenue, NW., Washington, DC 20230; telephone: (202) 482-1766 or (202) 482-1280, respectively.

The Applicable Statute

Unless otherwise indicated, all citations to the Tariff Act of 1930, as amended (“the Act”), are references to the provisions effective January 1, 1995, the effective date of the amendments made to the Act by the Uruguay Round Agreements Act. In addition, unless otherwise indicated, all citations to the Department's regulations are to 19 CFR part 351 (2001).

SUPPLEMENTARY INFORMATION:

Background

On April 30, 2001, the petitioner ¹ requested an administrative review pursuant to 19 CFR 351.213(b) for one exporter ² included in the antidumping duty order and five exporters included in three exporter/producer combinations ³ that received zero rates in the less-than-fair-value (“LTFV”) investigation and thus were excluded from the antidumping duty order only with respect to brake rotors sold through the specified exporter/producer combinations.

¹ The petitioner is the Coalition for the Preservation of American Brake Drum and Rotor Aftermarket Manufacturers.

² The exporter is Qingdao Gren (Group) Co. (“Gren”).

³ The excluded exporters/producer combinations are: (1) China National Automobile Industry Import & Export Corporation (“CAIEC”) or Shandong Laizhou CAPCO Industry (“Laizhou CAPCO”)/Laizhou CAPCO; (2) Shenyang Honbase Machinery Co., Ltd. (“Shenyang Honbase”) or Laizhou Luyuan Automobile Fittings Co., Ltd. (“Laizhou Luyuan”)/Shenyang Honbase or Laizhou Luyuan and (3) China National Machinery and Equipment Import & Export (Xinjiang) Co., Ltd. (“Xinjiang”)/Zibo Botai Manufacturing Co., Ltd. (“Zibo”).

On May 23, 2001, the Department initiated an administrative review covering Gren and the five exporters except with respect to excluded exporter/producer combinations (see Initiation of Antidumping and Countervailing Duty Administrative Reviews (66 FR 28421, May 23, 2001)).

On June 6, 2001, we issued a questionnaire to each company listed in the brake rotor initiation notice. On June 25, 2001, the Department provided the parties an opportunity to submit publicly available information for consideration in these preliminary results.

On July 13, 2001, each of the exporters that received zero rates in the LTFV investigation stated that during the period of review (“POR”) it did not make U.S. sales of brake rotors produced by companies other than those included in its respective excluded exporter/producer combination. On July 19, 2001, the petitioner submitted a letter requesting the Department to conduct a verification of: (1) The response submitted by Gren; and (2) the no-shipment claims made by the five exporters named in the three exporter/producer combinations excluded from the antidumping duty order. On July 27, 2001, Gren submitted its questionnaire response.

On August 3, 2001, the petitioner submitted a letter in which it requested that the Department investigate a potential change in ownership of the five exporters included in the three exporter/producer combinations excluded from the antidumping duty order. On August 24, 2001, the petitioner submitted another letter in which it requested that the Department also verify Laizhou Luyuan's and Shenyang Honbase's U.S. importer which held ownership during the period of investigation (“POI”) in those two companies.

On August 20, 2001, the Department issued a supplemental questionnaire to Gren, for which it received a response on September 18, 2001.

On October 2, 2001, the Department conducted a data query on brake rotor entries made during the POR from all exporters named in the excluded exporter/producer combinations in order to substantiate their claims of no shipments of subject merchandise made during the POR. As a result of the data query, the Department requested that the Customs Service confirm the actual manufacturer for specific entries associated with the excluded exporter/producer combinations.

In response to the petitioner's August 3 and 6, 2001, letters, the Department notified the petitioner on September 5, 2001, that it considered the change-in-ownership allegation with respect to the exporter/producer combinations excluded from the antidumping duty order to be outside the scope of this review.

On September 28, 2001, the petitioner submitted a letter in which it requested the Department to reconsider its decision not to investigate allegations of changes in ownership with respect to the exporter/producers combinations in this review.

After reconsidering the petitioner's November 5, 2001, request to examine any change in ownership of Laizhou Luyuan and Shenyang Honbase since the POI, the Department issued Laizhou Luyuan and Shenyang Honbase questionnaires on November 6, 2001, regarding the ownership of both companies. On November 27, 2001, Laizhou Luyuan and Shenyang Honbase submitted their responses to the supplemental questionnaire.

On December 31, 2001, the Department issued a memorandum stating that it preliminarily found no evidence that shipments of merchandise subject to the order were made by the five exporters included in the three exporter/producer combinations during the POR.

Postponement of Final Results

In accordance with section 751(a)(3)(A) of the Act, as amended, we determine that it is not practicable to complete this review within the original time frame because of the Department's decision to verify certain respondents in this review (see “Verification” section of this notice for further discussion). We are currently unable to conduct verification and allow sufficient opportunity for the submission of interested party comments, prior to the current final results deadline. Thus, in accordance with section 751(a)(3)(A) of the Act and section 351.213(h)(2) of the Department's regulations, the Department is extending the time limit for completion of the final results of these reviews until no later than 300 days from the date of publication of this notice.

Scope of Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in the order are not certified by OEM producers of vehicles sold in the United States. The scope also includes composite brake rotors that are made of gray cast iron, which contain a steel plate, but otherwise meet the above criteria. Excluded from the scope of the order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (“HTSUS”). Although the HTSUS subheading is provided for convenience and customs purposes, the written description of the scope of this order is dispositive.

Period of Review

The POR covers the period April 1, 2000, through March 31, 2001.

Verification

As provided in section 782(i)(2) of the Act and 19 CFR 351.307, we intend to verify certain information relied upon in making our final results. On August 24, 2001, the petitioner requested that the Department conduct verification of the information and statements submitted by all exporter/producer combinations excluded from this order (i.e., Laizhou Luyuan and Shenyang Honbase, Xinjiang/Zibo, and CAIEC/Laizhou CAPCO), the U.S. importer MAT, and Gren. We intend to verify Laizhou Luyuan, Shenyang Honbase, and the company that purchased a significant share in Laizhou Luyuan in accordance with 19 CFR 351.307. We also intend to verify CAIEC and Laizhou CAPCO. However, we do not intend to verify Gren because we do not find just cause has been demonstrated with respect to this company. In addition, verification of this company is not statutorily required, nor, has the petitioner provided a sufficient basis for examining Laizhou Luyuan's U.S. importer's data (i.e., MAT).

Preliminary Partial Rescission of Administrative Review

Pursuant to 19 CFR 351.213(d)(3), we have preliminarily determined that the exporters which are part of the three exporter/producer combinations which received zero rates in the LTFV investigation did not make shipments of subject merchandise to the United States during the POR. Specifically, (1) neither CAIEC nor Laizhou CAPCO exported brake rotors to the United States that were manufactured by producers other than Laizhou CAPCO; (2) neither Shenyang Honbase nor Laizhou Luyuan exported brake rotors to the United States that were manufactured by producers other than Shenyang Honbase or Laizhou Luyuan; and (3) Xinjiang did not export brake rotors to the United States that were manufactured by producers other than Zibo (see December 31, 2001, Memorandum from the case analyst to the file). In order to make this determination, we first examined PRC brake rotor shipment data maintained by the Customs Service. We then selected entries associated with each exporter and requested the Customs Service to provide documentation which would enable the Department to determine who manufactured the brake rotors included in those entries. On December 31, 2001, we placed on this record a memorandum which summarized the data provided by the Customs Service in response to our query. Based on the results of our query, in accordance with 19 CFR 351.213(d)(3), we are preliminarily rescinding the administrative review because we found no evidence that the exporters in question made U.S. shipments of the subject merchandise during the POR. Although we still have not received manufacturer confirmation on some of the entries we selected in our sample, we will continue to pursue this matter with the Customs Service and seek to obtain the necessary data for consideration in our final results.

Based on information obtained in this proceeding, we issued supplemental questionnaires to two of the excluded companies, Laizhou Luyuan and Shenyang Honbase, in order to determine if a change in ownership occurred in either company.

Based on the data submitted by Shenyang Honbase, we find that there has been no change in ownership in this company since the POI. Therefore, there is no ownership issue with respect to Shenyang Honbase. Since the LTFV investigation, another company has purchased a significant portion of Laizhou Luyuan. The petitioner claims that because brake rotors exported by this other company are covered by the order, and because it owns the majority shares in Laizhou Luyuan, the Department should consider Laizhou Luyuan and this other company as one entity. Although a change in ownership has occurred with respect to Laizhou Luyuan, we find no evidence that this change in ownership has resulted in Laizhou Luyuan exporting subject merchandise to the United States which was not produced by itself or Shenyang Honbase (i.e., the conditions under which Laizhou Luyuan's entries are excluded from the order).

In order to determine whether these two companies should be treated as one entity, we examined the extent to which the export operations of Laizhou Luyuan and this other company were intertwined such that this relationship has the potential to impact pricing and export decisions pertaining to the subject merchandise and create a potential for manipulation. Based on information in the record, we find that the export activities of Laizhou Luyuan and the company that purchased a significant portion of Laizhou Luyuan are not under common control even though common ownership does exist. For example, information in Laizhou Luyuan's response indicates that Laizhou Luyuan retained the same management before and after its purchase by the other company. Thus, we preliminarily find the export operations of Laizhou Luyuan and the other company are sufficiently separate of one another such that there is no significant potential for manipulation of pricing or export decisions.

Based on our examination of record evidence, we preliminarily determine that Laizhou Luyuan has not significantly changed its (1) management, (2) production facilities, (3) supplier relationships, or (4) customer base as a result of its purchase by the other company (see pages 4 through 10 of Laizhou Luyuan's November 27, 2001, submission). Although the petitioner claims that Laizhou Luyuan's management, suppliers, and customers have changed significantly since the LTFV proceeding, there is no evidence that these changes were a result of the other company's purchase of Laizhou Luyuan. On the contrary, information on the record indicates that the changes mentioned by the petitioner appear to have occurred prior to the other company purchasing a significant share of Laizhou Luyuan. However, we will examine this issue further at verification.

Finally, we have no evidence at this time that the other company is exporting Laizhou Luyuan-made brake rotors which are not being assessed the PRC-wide rate upon entry into the United States or that Laizhou Luyuan is exporting brake rotors sourced through the other company.

Separate Rates

In proceedings involving NME countries, the Department begins with a rebuttable presumption that all companies within the country are subject to government control and thus should be assessed a single antidumping duty deposit rate (i.e., a PRC-wide rate).

The respondent in this review, Gren, is collectively-owned. Thus, a separate-rates analysis is necessary to determine whether this exporter is independent from government control (see Notice of Final Determination of Sales at Less Than Fair Value: Bicycles From the People's Republic of China (“Bicycles”) 61 FR 56570 (April 30, 1996)).

To establish whether a firm is sufficiently independent in its export activities from government control to be entitled to a separate rate, the Department utilizes a test arising from the Final Determination of Sales at Less Than Fair Value: Sparklers from the People's Republic of China, 56 FR 20588 (May 6, 1991) (“Sparklers”), and amplified in the Final Determination of Sales at Less Than Fair Value: Silicon Carbide from the People's Republic of China, 59 FR 22585 (May 2, 1994) (“Silicon Carbide”). Under the separate-rates criteria, the Department assigns separate rates in NME cases only if the respondent can demonstrate the absence of both de jure and de facto governmental control over export activities.

1. De Jure Control

Gren has placed on the administrative record documents to demonstrate absence of de jure control, including the “The Enterprise Legal Person Registration Administrative Regulations,” promulgated on June 3, 1988; the 1990 “Regulation Governing Rural Collectively-Owned Enterprises of PRC;” and the 1994 “Foreign Trade Law of the People's Republic of China.”

As in prior cases, we have analyzed these laws and have found them to establish sufficiently an absence of de jure control of collectively owned enterprises. See, e.g., Final Determination of Sales at Less than Fair Value: Furfuryl Alcohol from the People's Republic of China (“Furfuryl Alcohol”) 60 FR 22544 (May 8, 1995), and Preliminary Determination of Sales at Less Than Fair Value: Certain Partial-Extension Steel Drawer Slides with Rollers from the People's Republic of China, 60 FR 29571 (June 5, 1995). We have no new information in this proceeding which would cause us to reconsider this determination with regard to Gren.

2. De Facto Control

As stated in previous cases, there is some evidence that certain enactments of the PRC central government have not been implemented uniformly among different sectors and/or jurisdictions in the PRC. See Silicon Carbide and Furfuryl Alcohol. Therefore, the Department has determined that an analysis of de facto control is critical in determining whether the respondents are, in fact, subject to a degree of governmental control which would preclude the Department from assigning separate rates.

The Department typically considers four factors in evaluating whether each respondent is subject to de facto governmental control of its export functions: (1) Whether the export prices are set by, or subject to the approval of, a governmental authority; (2) whether the respondent has authority to negotiate and sign contracts and other agreements; (3) whether the respondent has autonomy from the government in making decisions regarding the selection of management; and (4) whether the respondent retains the proceeds of its export sales and makes independent decisions regarding the disposition of profits or financing of losses (see Silicon Carbide and Furfuryl Alcohol).

Gren has asserted the following: (1) It establishes its own export prices; (2) it negotiates contracts without guidance from any governmental entities or organizations; (3) it makes its own personnel decisions; and (4) it retains the proceeds of its export sales, uses profits according to its business needs, and has the authority to sell its assets and to obtain loans. Additionally, Gren's questionnaire responses indicate that its pricing during the POR does not suggest coordination among exporters. This information supports a preliminary finding that there is de facto absence of governmental control of export functions performed by Gren. See Pure Magnesium from the People's Republic of China: Preliminary Results of Antidumping Duty New Shipper Administrative Review, 62 FR 55215 (October 23, 1997). Consequently, we have preliminarily determined that Gren has met the criteria for the application of separate rates.

Normal Value Comparisons

To determine whether sales of the subject merchandise by Gren to the United States were made at prices below normal value (“NV”), we compared its export prices to NV, as described in the “Export Price” and “Normal Value” sections of this notice, below.

Export Price

We used export price methodology in accordance with section 772(a) of the Act because the subject merchandise was sold by the exporter directly to an unaffiliated customer in the United States prior to importation and constructed export price was not otherwise indicated.

For Gren, we calculated export price based on packed, CIF U.S. port or FOB foreign port prices to the first unaffiliated purchaser in the United States. Where appropriate, we made deductions from the starting price (gross unit price) for foreign inland freight, foreign brokerage and handling charges in the PRC, marine insurance, and ocean freight in accordance with section 772(c) of the Act. Because foreign inland freight, foreign brokerage and handling fees, marine insurance, and ocean freight were provided by PRC service providers or paid for in an NME currency (i.e., renminbi), we based those charges on surrogate rates from India (see “Surrogate Country” section below for further discussion of our surrogate country selection). To value foreign inland trucking charges, we used a November 1999 average truck freight value based on price quotes from Indian trucking companies. To value foreign brokerage and handling expenses, we relied on public information reported in the 1997-1998 antidumping duty new shipper review of stainless steel wire rod from India. To value marine insurance, we relied on public information reported in the antidumping duty investigation of sulfur dyes, including sulfur vat dyes, from India. To value ocean freight, we used a May 2000 price quote from a U.S. shipping company.

Normal Value

A. Non-Market Economy Status

In every case conducted by the Department involving the PRC, the PRC has been treated as a NME country. Pursuant to section 771(18)(C)(i) of the Act, any determination that a foreign country is a NME country shall remain in effect until revoked by the administering authority (see Notice of Preliminary Results of Antidumping Duty Administrative Review and Preliminary Partial Rescission of Antidumping Duty Administrative Review: Freshwater Crawfish Tail Meat From the People's Republic of China, 66 FR 52100, 52103 (October 12, 2001). None of the parties to this proceeding has contested such treatment. Accordingly, we calculated normal value in accordance with section 773(c) of the Act, which applies to NME countries.

B. Surrogate Country

Section 773(c)(4) of the Act requires the Department to value a NME producer's factors of production, to the extent possible, in one or more market economy countries that (1) are at a level of economic development comparable to that of the NME country, and (2) are significant producers of comparable merchandise. India and Indonesia are among the countries comparable to the PRC in terms of overall economic development (see Memorandum from the Office of Policy to Irene Darzenta Tzafolias, dated June 21, 2001). In addition, based on publicly available information placed on the record, India is a significant producer of the subject merchandise. Accordingly, we considered India the primary surrogate country for purposes of valuing the factors of production because it meets the Department's criteria for surrogate country selection. Where we could not find surrogate values from India, we used values from Indonesia.

C. Factors of Production

In accordance with section 773(c) of the Act, we calculated NV based on the factors of production which included, but were not limited to: (A) Hours of labor required; (B) quantities of raw materials employed; (C) amounts of energy and other utilities consumed; and (D) representative capital costs, including depreciation. We used the factors reported by Gren which produced the brake rotors it exported to the United States during the POR. To calculate NV, we multiplied the reported unit factor quantities by publicly available Indian or Indonesian values.

The Department's selection of the surrogate values applied in this determination was based on the quality, specificity, and contemporaneity of the data. As appropriate, we adjusted input prices to make them delivered prices. For those values not contemporaneous with the POR and quoted in a foreign currency or in U.S. dollars, we made adjustments for inflation using wholesale price indices published in the International Monetary Fund's International Financial Statistics.

To value pig iron, steel scrap, ferrosilicon, ferromanganese, limestone, lubrication oil, ball bearing cups, and coking coal, we used April 2000-February 2001 average import values from Monthly Statistics of the Foreign Trade of India. We relied on the factor specification data submitted by the respondent for the above-mentioned inputs in its September 18, 2001, submission for purposes of selecting surrogate values from Monthly Statistics. Because we could not obtain a product-specific price from India to value lug bolts, we used a January-March 1999 product-specific import value from the Indonesian government publication Foreign Trade Statistical Bulletin (see Bicycles, 61 FR at 19040 (Comment 17)). We also added an amount for loading and additional transportation charges associated with delivering coal to the factory based on June 1999 Indian price data contained in the periodical Business Line.

To value firewood, we used April 2000-February 2001 rather than April 1997-March 1998 average import values from Monthly Statistics. In its August 28, 2001, submission, the petitioner argues that the Department should value this input using data from Monthly Statistics which is less contemporaneous to the POR because new articles (i.e., February 26, 2001, article from the Times of India and September 30, 1997, U.S. Department of Agriculture Report) submitted by the petitioner indicate that firewood values in India may have been increasing since 1997 due to a greater dependence and demand in rural areas. For these preliminary results, we have relied on the April 2000-February 2001 data from Monthly Statistics to value this input because it is contemporaneous with the POR and we find no basis for considering this value as aberrational or unrepresentative of firewood values applicable during the POR.

We based our surrogate value for electricity on data obtained from Conference of Indian Industries: Handbook of Statistics (“CII Handbook”) and from the Centre for Monitoring Indian Economy (“CMIE data”).

We valued labor based on a regression-based wage rate, in accordance with 19 CFR 351.408(c)(3).

To value selling, general, and administrative (“SG&A”) expenses, factory overhead and profit, we used the 1998 financial data of Jayaswals Neco Limited and the 1998-1999 financial data of Kalyani Brakes Limited (“Kalyani”) and Rico Auto Industries Limited (“Rico”). We have not used the fiscal data obtained by the petitioner for Kalyani and Rico from the Indiainfoline.com web site because the data provided by this web site is incomplete for purposes of calculating ratios for SG&A, factory overhead profit. Specifically, the website data provided only expense data based on general categories of expenses and not on the basis of specific expenses. Specific expense data is necessary for determining whether a particular expense should be considered an overhead or selling expense and for calculating accurate surrogate value percentages.

Where appropriate, we removed from the surrogate overhead and SG&A calculations the excise duty amount listed in the financial reports. We made certain adjustments to the ratios calculated as a result of reclassifying certain expenses contained in the financial reports. For further discussion of the adjustments made, see the Preliminary Results Valuation Memorandum, dated December 31, 2001.

All inputs were shipped by truck. Therefore, to value PRC inland freight, we used a November 1999 average truck freight value based on price quotes from Indian trucking companies.

In accordance with the decision of the Court of Appeals for the Federal Circuit in Sigma Corp. v. United States, 117 F. 3d 1401 (1997), we revised our methodology for calculating source-to-factory surrogate freight for those material inputs that are valued based on CIF import values in the surrogate country. We have added to CIF surrogate values from India a surrogate freight cost using the shorter of the reported distances from either the closest PRC port of importation to the factory, or from the domestic supplier to the factory on an input-specific basis.

To value corrugated cartons, nails, paper cartons, paper cover, plastic bags, steel strip, tape, and tin clamps, we used April 2000-February 2001 average import values from Monthly Statistics. To value pallet wood, we used a 1998 pallet wood value from the Indonesian publication Indonesia Foreign Trade Statistics which the Department has used to value pallet wood in two recent antidumping duty proceedings (see Tapered Roller Bearings and Parts Thereof, Finished and Unfinished, From the People's Republic of China: Final Results of 1998-1999 Administrative Review, Partial Rescission of Review, and Determination Not To Revoke Order in Part, 66 FR 1953, 1955 (January 10, 2001) (“TRBs”) and accompanying decision memorandum at Comment 10, and Persulfates from the People's Republic of China: Final Results of Antidumping Duty Administrative Review and Partial Rescission of Administrative Review, 65 FR 46691 (July 31, 2000)).

Preliminary Results of the Review

We preliminarily determine that the following margin exists for Gren during the period April 1, 2000, through March 31, 2001:

Manufacturer/producer/exporter | Margin percent
Qingdao Gren (Group) Co | *0.02
* De minimis.

We will disclose the calculations used in our analysis to the parties to this proceeding within five days of the date of publication of this notice. Any interested party may request a hearing within 30 days of publication of this notice. Any hearing, if requested, will be held on June 28, 2002.

Interested parties who wish to request a hearing or to participate if one is requested, must submit a written request to the Assistant Secretary for Import Administration, Room B-099, within 30 days of the date of publication of this notice. Requests should contain: (1) The party's name, address, and telephone number; (2) the number of participants; and (3) a list of issues to be discussed. See 19 CFR 351.310(c).

Issues raised in the hearing will be limited to those raised in case briefs and rebuttal briefs. Case briefs from interested parties may be submitted not later than June 14, 2002. Rebuttal briefs, limited to issues raised in the case briefs, will be due not later than June 21, 2002. Parties who submit case briefs or rebuttal briefs in this proceeding are requested to submit with each argument (1) a statement of the issue and (2) a brief summary of the argument. Parties are also encouraged to provide a summary of the arguments not to exceed five pages and a table of statutes, regulations, and cases cited.

The Department will issue the final results of this administrative review, including the results of its analysis of issues raised in any such written briefs or at the hearing, if held, not later than 300 days after the date of publication of this notice.

Assessment Rates

The Department shall determine, and the Customs Service shall assess, antidumping duties on all appropriate entries. Pursuant to 19 CFR 351.212(b)(1), we will calculate importer-specific ad valorem duty assessment rates based on the ratio of the total amount of the dumping margins calculated for the examined sales to the total entered value of those same sales. In order to estimate the entered value, we will subtract applicable movement expenses from the gross sales value. In accordance with 19 CFR 351.106(c)(2), we will instruct the Customs Service to liquidate without regard to antidumping duties all entries of subject merchandise during the POR for which the importer-specific assessment rate is zero or de minimis (i.e., less than 0.50 percent). The Department will issue appropriate appraisement instructions directly to the Customs Service upon completion of this review.

Cash Deposit Requirements

Upon completion of this review, for entries from Gren, we will require cash deposits at the rate established in the final results pursuant to 19 CFR 351.214(e) and as further described below.

The following deposit requirements will be effective upon publication of the final results of this administrative review for all shipments of brake rotors from the PRC entered, or withdrawn from warehouse, for consumption on or after the publication date, as provided by section 751(a)(1) of the Act: (1) The cash deposit rate for Gren will be the rate determined in the final results of review (except that if the rate is de minimis, i.e., less than 0.50 percent, a cash deposit rate of zero will be required); (2) the cash deposit rate for PRC exporters who received a separate rate in a prior segment of the proceeding will continue to be the rate assigned in that segment of the proceeding; (3) the cash deposit rate for the PRC NME entity will continue to be 43.32 percent; and (4) the cash deposit rate for non-PRC exporters of subject merchandise from the PRC will be the rate applicable to the PRC supplier of that exporter. These requirements, when imposed, shall remain in effect until publication of the final results of the next administrative review.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with section 751(a)(1) of the Act (19 U.S.C. 1675(a)(1)) and 19 CFR 351.213.

Dated: December 28, 2001.
Richard W. Moreland,
Acting Assistant Secretary for Import Administration.

[FR Doc. 02-246 Filed 1-3-02; 8:45 am]

BILLING CODE 3510-DS-P